DEPARTMENT OF TRANSPORTATION

Pipeline and Hazardous Materials Safety Administration

[Docket No. PHMSA-2012-0059; Notice No. 12-5]

Clarification Policy on Initial Fitness Review for Classification Approvals

AGENCY: Pipeline and Hazardous Materials Safety Administration (PHMSA), DOT.

ACTION: Clarification.

SUMMARY: This notice clarifies and provides further guidance on PHMSA's policy of conducting fitness reviews of applicants for classification approvals, including Fireworks, Explosives, Organic Peroxides and Self-reactive materials.

DATES: The policy clarification discussed in this document is effective July 5, 2012.

FOR FURTHER INFORMATION CONTACT: Mr. Ryan Paquet, Director, Approvals and Permits Division, Office of Hazardous Materials Safety, (202) 366-4512, PHMSA, 1200 New Jersey Avenue SE., Washington, DC 20590.

SUPPLEMENTARY INFORMATION: Effective immediately, Initial Fitness Reviews (IFR) will no longer be performed by PHMSA as part of the processing for classification approvals, including: Fireworks, Explosives, Organic Peroxides and Self Reactive Materials.

The use of the available agency information in the Hazmat Intelligence Portal (HIP) and Federal Motor Carrier Safety Administration's (FMCSA) Safety Fitness Electronic Records (SAFER) databases do not directly and adequately indicate a company's capability to manufacture the approved product in accordance with the application submitted to PHMSA. This change in policy and practice will be reflected in the next update to the Approvals Standard Operating Procedures and in the evaluation forms completed as part of the review process.

Fitness of applicants for classification approvals will continue to be reviewed through application evaluation, inspection, oversight and intelligence received from PHMSA or another Operating Administration (FAA, FMCSA, FRA, or USCG).

Issued in Washington, DC, on June 28, 2012.
William Schoonover,
Deputy Associate Administrator for Field Operations, Pipeline and Hazardous Materials Safety Administration.

[FR Doc. 2012-16363 Filed 7-3-12; 8:45 am]

BILLING CODE 4910-60-P